ENVIRONMENTAL PROTECTION AGENCY

[ER-FRL-6626-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in Federal Register dated May 18, 2001 (66 FR 27647).

Draft EISs

ERP No. D-AFS-L65393-WA Rating LO, Gardin—Taco Ecosystem Restoration Projects, Implementation, Vegetative Restoration, Road Closures, and Decommissioning, and other Road Improvements, Colville National Forest, Newport Ranger District, Pend Oreille and Stevens Counties, WA.

Summary: EPA had no objection to the proposed project. EPA did however request clarifying information on water quality, smoke impacts from prescribed fires and cumulative effects.

ERP No. D-COE-G39035-AR Rating LO, Greers Ferry Lake Shoreline Management Plan (SMP), Implementing Revision to Replace the 1994 Shore Management Plan, Revision include Zoning of Limited Development Areas, Vegetation Modification Provisions for Grandfathered Docks and Restrictions on Boats, Van Buren, Cleburne, Searcy, Stone, White, Independence and Pope Counties, AR.

Summary: EPA has Lack of Objections to the selection of the preferred alternatives and requests additional information in the Final EIS to more clearly identify the informational needs and strengthen the impact analysis and NEPA decisionmaking process.

ERP No. D-COE-L39058-00 Rating EO2, McNary Reservoir and Lower Snake River Reservoirs, To Maintain the Authorized Navigation Channel, Dredged Material Management Plan (DMMP), Walla Walla District, Lower Snake River and Columbia River, ID and WA.

Summary: EPA expressed environmental objections related to the lack of a sediment reduction strategy, the effects of the proposed creation of salmon habitat, sediment characterization, and the need to form and utilize the proposed Local Sediment Management Group. EPA recommended that these topics, as well as a number of others, be addressed further in the EIS.

ERP No. D-DOE-E09808-KY Rating EC2, Kentucky Pioneer Integrated Gasification Combined Cycle Demonstration Project, Constructing and Operating a 540 megawatt-electric Plant, Clean Coal Technology Program, Clark County, KY.

Summary: EPA expressed environmental concerns with potential impacts to threatened and endangered species and requested that DOE coordinate with the Fish and Wildlife Service on such species. EPA also requested that DOE coordinate with the Corps of Engineers on potential wetlands impacts and that DOE provide additional information on cooling tower discharges.

ERP No. D-IBR-K61154-AZ Rating EC2, Reach 11 Recreation Master Plan, Central Arizona Project (CAP) Canal, Between Cave Creek and Scottdale Roads, For Recreational Purposes, Flood Detention Basin, City of Phoenix, Maricopa County, AZ.

Summary: EPA expressed environmental concerns and requested additional information regarding impacts to water resources and sensitive riparian habitat.

ERP No. D-MMS-A02242-00 Rating EC2, Outer Continental Shelf Oil and Gas Leasing Program: From Mid-2002 Through Mid-2007, 5-Year Schedule Leasing Program for 20 Sales in 8 of the Outer Continental Shelf Planning Areas, AL, AK, CA, FL, LA, MS, OR, TX and WA.

Summary: EPA expressed environmental concerns regarding air quality conformity and environmental justice issues. EPA requested that additional information on these issues be included in the final document.

ERP No. DS-BIA-K60031-NV Rating EC2, Moapa Paiute Energy Center/Associated Facilities Construction, Operation and Maintenance of a 760 Megawatt (MW) Baseload Natural Gas-Fired Combined Cycle Power Plant, New Information concerning Structural, Route and Substation Location Changes, Moapa River Indian Reservation and Bureau of Land Management Lands, Clark County, NV.

Summary: EPA continues to have unresolved environmental concerns, and has requested additional information regarding impacts of the proposed project on surface and groundwater. In addition, EPA encouraged BIA to ensure that permit activities by the project applicant do not limit the consideration of all reasonable alternatives.

ERP No. DS-FHW-G40165-NM Rating LO, US 70 Corridor Improvement, Between Ruidoso Downs to Riverside, New Information and Circumstances, Implementation, Right-of-Way Acquisition, Lincoln County, NM.

Summary: EPA has no objections to the selection of the preferred alternative with implementation of the mitigation measures as described in the supplemental DEIS. EPA requested that the final mitigation plan be incorporated in the Record of Decision Document.

Final EISs

ERP No. F-AFS-J65310-00 Dakota Prairie Grasslands, Nebraska National Forest Units and Thunder Basin National Grassland, Land and Resource Management Plans 1999 Revisions, Implementation, MT, NB, WY, ND and SD.

Summary: EPA continued to express environmental concerns with Wilderness acreage and Wild and Scenic River mile designations that have decreased since the DEIS. Monitoring should be a top priority to ensure that the outstanding characteristics of these areas are not diminished by continued use at a higher management class level.

ERP No. F-AFS-J65335-MT Dry Fork Vegetation Restoration Project, To Improve Forest and Watershed Health and Sustainability, King Hill Ranger District, Lewis and Clark National Forest, Cascade and Judith Basin Counties, MT.

Summary: EPA continues to have environmental concerns associated with road construction and timber harvest.

ERP No. F-AFS-J65352-MT Kelsey-Beaver Fire Recovery Project, Fuel Reduction and Salvage of Fire-Killed Trees within Roderick South, Kelsey Creek and Upper Beaver Areas, Implementation, Kootenai National Forest, Three Rivers Ranger District, Lincoln County, MT.

Summary: EPA continued to express environmental concerns and recommened that winter logging be considered in erodible areas to reduce sediment production. EPA also noted the need for consistency of proposed actions with State TMDL development needs for the 303(d) listed South Fork Yaak River.

ERP No. F-APH-A82125-00 Fruit Fly Cooperative Control Program, Eradication Program, Implementation,.

Summary: The Final EIS addresses EPA's principal suggestion for improvements to the draft EIS.

ERP No. F-COE-J36050-ND Maple River Dam and Reservoir, Construction and Operation, Flood Control, Cass County Joint Water Resource District, Cass County, ND.

Summary: EPA continues to have environmental concerns regarding the relatively small area benefitting from the dam when compared to the impacts to cultural resources and riparian/wetland habitat.

ERP No. F-IBR-L65374-WA Potholes Reservoir Resource Management Plan, Implementation, COE Section 404 and NPDES Permits, Moses Lake, Grant County, WA.

Summary: No formal comment letter was sent to the preparing agency.

ERP No. F-STB-J53005-00 Powder River Basin Expansion Project, Construction of New Rail Facilities, Finance Docket No. 33407 Dakota, Minnesota and Eastern Railroad, SD, WY and MN.

Summary: EPA expressed environmental concerns for the lack of mitigation for the anticipated air impacts to Badlands and Wind Cave National Parks in South Dakota. Additionally, EPA is concerned about the potential placement of fill in the Blue Earth River if the Mankato by-pass (Option M2) is selected.

ERP No. F-USA-K11099-CA Oakland Army Base Disposal and Reuse Plan, Implementation, City of Oakland, Alameda County, CA.

Summary: No formal comment letter was sent to the preparing agency.

ERP No. FA-AFS-J65287-UT Rendezvous Vegetation Management Project, To the South Spruce Ecosystem Rehabilitation Project, Implementation, Dixie National Forest, Cedar City Ranger District, Iron and Kane Counties, UT.

Summary: EPA expressed environmental concerns about considering only No Action and one alternative with separable actions. Environmental concerns included impacts on old-growth forest and wildlife habitat. The project Purpose is unsupported by the data presented for the Proposed Action.

Dated: January 29, 2002.
B. Katherine Biggs,
Associate Director, NEPA Compliance Division, Office of Federal Activities.

[FR Doc. 02-2523 Filed 1-31-02; 8:45 am]

BILLING CODE 6560-50-P